DEPARTMENT OF HOMELAND SECURITY

U.S. Customs and Border Protection

19 CFR Chapter I

Notification of Temporary Travel Restrictions Applicable to Land Ports of Entry and Ferries Service Between the United States and Mexico; Correction

AGENCY: Office of the Secretary, U.S. Department of Homeland Security; U.S. Customs and Border Protection, U.S. Department of Homeland Security.

ACTION: Notification of continuation of temporary travel restrictions; correction.

SUMMARY: The Department of Homeland Security (DHS) is making corrections to a notice that appeared in the Federal Register on December 22, 2020. The document contained incorrect dates.

DATES: The corrections apply to the notification published in the Federal Register December 22, 2020.

FOR FURTHER INFORMATION CONTACT: Stephanie Watson, Office of Field Operations Coronavirus Coordination Cell, U.S. Customs and Border Protection (CBP) at 202-325-0840.

SUPPLEMENTARY INFORMATION:

Correction

In the Federal Register of December 22, 2020, in FR Doc. 2020-28375—

• On page 83433, in the third column, correct the words “January 21, 2020.” to read, “January 21, 2021.”; and

• On page 83434, in the third column, correct the words “January 21, 2020.” to read, “January 21, 2021.”

Christina E. McDonald,
Associate General Counsel for Regulatory Affairs, U.S. Department of Homeland Security.

[FR Doc. 2020-28876 Filed 1-15-21; 8:45 am]

BILLING CODE 9112-FP-P